DEPARTMENT OF HEALTH AND HUMAN SERVICES

Office of the National Coordinator for Health Information Technology; Recommendations Received From the HIT Policy Committee

AGENCY: Office of the National Coordinator for Health Information Technology (ONC), Department of Health and Human Services (HHS).

ACTION: Notice.

SUMMARY: Section 3002(e) of the Public Health Service Act, as amended by the Health Information Technology for Economic and Clinical Health (HITECH) Act, requires the National Coordinator for Health Information Technology to publish in the Federal Register and post on the internet all policy recommendations made by the HIT Policy Committee.

Policy recommendations presented at the February 2, 2011 HIT Policy Committee meeting have been transmitted from the HIT Policy Committee to the National Coordinator and are available on the ONC Web site: http://healthit.hhs.gov/portal/server.pt/community/healthit_hhs_gov__policy_recommendations/1815.

Dated: February 14, 2011.
Judith Sparrow,
Office of Programs and Coordination, Office of the National Coordinator for Health Information Technology.

[FR Doc. 2011-4290 Filed 2-24-11; 8:45 am]

BILLING CODE 4150-45-P